ENVIRONMENTAL PROTECTION AGENCY

40 CFR Part 300

[FRL-7977-7]

National Oil and Hazardous Substances Pollution Contingency Plan; National Priorities List

AGENCY: Environmental Protection Agency.

ACTION: Notice of Intent to Delete the Batavia Landfill Superfund Site from the National Priorities List.

SUMMARY: The Environmental Protection Agency (EPA) Region 2 office is issuing this notice of intent to delete the Batavia Landfill Superfund Site (Site), located in the Town of Batavia, Genesee County, New York from the National Priorities List (NPL) and requests public comment on this action. The NPL is Appendix B of the National Oil and Hazardous Substances Pollution Contingency Plan (NCP), 40 CFR part 300, which EPA promulgated pursuant to Section 105 of the Comprehensive Environmental Response, Compensation, and Liability Act (CERCLA) of 1980, as amended. The EPA and the State of New York, through the Department of Environmental Conservation (NYSDEC), have determined that potentially responsible parties have implemented all appropriate response actions, other than operation and maintenance and five-year reviews. Moreover, EPA and NYSDEC have determined that the Site poses no significant threat to public health or the environment. In the “Rules and Regulations” Section of today's Federal Register, EPA is publishing a direct final notice of deletion for the Batavia Landfill Superfund Site without prior notice of this action because EPA views this as a noncontroversial revision and anticipates no significant adverse comment. EPA has explained its reasons for this action in the preamble to the direct final deletion. If EPA receives no significant adverse comment(s) on this notice of intent to delete or the direct final notice of deletion or other notices it may issue, EPA will not take further action on this notice of intent to delete. If EPA receives significant adverse comment(s), it will withdraw the direct final notice of deletion and it will not take effect. EPA will, as appropriate, address all public comments. If, after evaluating public comments, EPA decides to proceed with deletion, it will do so in a subsequent final deletion notice based on this notice of intent to delete. Any parties interested in commenting must do so at this time. For additional information, see the direct final notice of deletion which is located in the Rules section of this Federal Register.

DATES: Comments concerning this Site must be received by October 31, 2005.

ADDRESSES: Written comments should be addressed to: Michael Walters, Remedial Project Manager, Emergency and Remedial Response Division, U.S. Environmental Protection Agency, Region 2, 290 Broadway, 20th Floor, New York, New York 10007-1866.

FOR FURTHER INFORMATION CONTACT: Michael Walters at the address provided above, or by telephone at (212) 637-4279, by fax at (212) 637-4284 or by e-mail at Walters.Michael@EPA.GOV.

SUPPLEMENTARY INFORMATION: For additional information, see the Direct Final Notice of Deletion which is located in the Rules section of this Federal Register.

Authority: 33 U.S.C. 1321(c)(2); 42 U.S.C. 9601-9675; E.O. 12777, 56 FR 54757, 3 CFR, 1991 Comp., p. 351; E.O. 12580, 52 FR 2923, 3 CFR, 1987 Comp., p. 193.

Dated: September 21, 2005.
Alan J. Steinberg,
Regional Administrator, U.S. EPA, Region II.

[FR Doc. 05-19614 Filed 9-29-05; 8:45 am]

BILLING CODE 6560-50-P